NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: May 19, 2015; 8 a.m.-6 p.m., May 20, 2015; 8 a.m.-2:30 p.m.

Place: National Science Foundation, 4201 Wilson Boulevard, Room 375, Arlington, VA 22230.

Operated assisted teleconference is available for this meeting. Call 800-857-3133 with password EHR AC MEET and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance on the day of the teleconference to receive a visitor's badge.

Meeting materials and minutes will also be available on the EHR Advisory Committee Web site at http://www.nsf.gov/ehr/advisory.jsp.

Type of Meeting: Open, Teleconference.

Contact Person: Keaven M. Stevenson, National Science Foundation, 4201 Wilson Boulevard, Room 805, Arlington, VA 22230, (703) 292-8600, kstevens@nsf.gov.

Purpose of Meeting: To provide advice with respect to the Foundation's science, technology, engineering, and mathematics (STEM) education and human resources programming.

Agenda

Tuesday, May 19, 2015, 8 a.m.-6 p.m.

• Remarks by the Committee Chair and NSF Assistant Director for Education and Human Resources (EHR)

• Feedback on the EHR Core Research Program White Paper

• Panel Discussion: Evolving Successful STEM Education Indicators

• Panel Discussion: Developing New Measures for 21st Century Skills

• Panel Discussion: New Directions for Broadening Participation with INCLUDES (Inclusion across the Nation of Communities of Learners that have been Underrepresented for Diversity in Engineering and Science)

• Discussion with Dr. Richard O. Buckius, NSF Chief Operating Officer

• Synthesis of the Day

Wednesday, May 20, 2015 8 a.m.-2:30 p.m.

• Panel Discussion on Putting Improvement Science into STEM

• Plenary Panel: The Future of Graduate Education

• Adjournment

Dated: April 15, 2015.
Suzanne Plimpton,
Acting, Committee Management Officer.

[FR Doc. 2015-08966 Filed 4-17-15; 8:45 am]

BILLING CODE 7555-01-P